DEPARTMENT OF HOMELAND SECURITY

Coast Guard

46 CFR Parts 10, 14, 15, 25, 31, 39, 44, 50, 54, 63, 69, 71, 91, 107, 110, 116, 125, 127, 134, 151, 153, 154, 161, 162, 170, 171, 172, 175, 177, and 189

[USCG-2007-29018]

RIN 1625-ZA14

Shipping; Technical, Organizational, and Conforming Amendments

AGENCY: Coast Guard, DHS.

ACTION: Final rule.

SUMMARY: This rule makes non-substantive changes throughout Title 46 of the Code of Federal Regulations. The purpose of this rule is to make conforming amendments and technical corrections to Coast Guard shipping regulations. This rule will have no substantive effect on the regulated public.

DATES: This final rule is effective September 21, 2007.

ADDRESSES: Comments and material received from the public, as well as documents mentioned in this preamble as being available in the docket, are part of docket USCG-2007-29018 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://dms.dot.gov at any time, clicking on “Simple Search,” entering the last five digits of the docket number for this rulemaking, and clicking on “Search.”

FOR FURTHER INFORMATION CONTACT: If you have questions on this rule, call LCDR Reed Kohberger, Coast Guard, telephone 202-372-1471. If you have questions on viewing or submitting material to the docket, call Ms. Renee V. Wright, Program Manager, Docket Operations, telephone 202-366-9826.

SUPPLEMENTARY INFORMATION:

Regulatory History

We did not publish a notice of proposed rulemaking (NPRM) for this regulation. Under both 5 U.S.C. 553(b)(A) and (b)(B), the Coast Guard finds this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard also finds that, for the same reasons, good cause exists for making this rule effective less than 30 days after publication in the Federal Register.

Background and Purpose

Each year Title 46 of the Code of Federal Regulations is updated on October 1. This rule, which becomes effective September 21, 2007, makes technical and editorial corrections throughout Title 46. This rule does not create any substantive requirements.

Discussion of Rule

This rule updates addresses for the Marine Safety Center in 26 sections, for the International Cargo Gear Bureau in five sections, and for the National Cargo Bureau in two sections. Internal Coast Guard office designators are updated in four sections, and typos are corrected in §§ 10.205, 54.15, 134.140, and 171.080. Additionally, § 10.805(e) and the formulas in § 54.15, are revised to improve clarity, but not substantively changed, and obsolete references in §§ 25.26-1 and 170.160 are updated.

Additional amendments to parts 10, 14, 15, 125, and 151 are:

46 CFR 10.205(g)(3). This provision, which requires applicants for certain licenses to present a certificate showing completion of an approved firefighting course, is reworded to improve clarity. The new provision does not exempt apprentice mates (steersmen) of towing vessels by name from this requirement. By limiting the requirement to certain personnel in ocean service, however, apprentice mates (steersmen) of towing vessels continue to be effectively exempt because they serve only on inland waters.

46 CFR 10.219. A list of Regional Examination Centers (RECs) where Officers in Charge, Marine Inspection (OCMIs) are located is no longer included in § 10.105, so the reference in this section has been revised accordingly to “any Regional Examination Center.” Additionally, replacing “Commandant” with “National Maritime Center” (NMC) as a source of a license or certificate brings the section into alignment with the previous delegation of certain mariner credentialing functions from the Commandant to the Commanding Officer of the NMC.

46 CFR 14.311. The words “via modem” are removed from paragraph (a) because they are unnecessary, outdated, and may be confusing to the public.

46 CFR 15.850. A citation to the International Regulations for Preventing Collisions at Sea is added for the public's convenience.

46 CFR 125.160. The existing section erroneously includes the definition of “Coastwise” as part of the definition of “Coast Guard District Commander or District Commander.” This error is corrected by separating the two definitions.

46 CFR 151.04. The requirement that every tank barge subject to regulation under Subchapter O be inspected biennially is changed to every five years. This amendment conforms the section to the provisions of 46 U.S.C. 3307 and a final rule published in 2000, which revised CFR Title 46 to establish a five year requirement, but inadvertently omitted the change to § 151 (65 FR 6494, February 9, 2000).

Regulatory Evaluation

This rule is not a “significant regulatory action” under section 3(f) of Executive Order 12866 and does not require an assessment of potential costs and benefits under section 6(a)(3) of that Order. The Office of Management and Budget has not reviewed it under that Order. We expect the economic impact of this rule to be so minimal that a full Regulatory Evaluation is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive M16475.1D, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. A final “Environmental Analysis Check List” and a final “Categorical Exclusion Determination” are available in the docket where indicated under ADDRESSES.

List of Subjects

46 CFR Part 10

Penalties, Reporting and recordkeeping requirements, Schools, Seamen.

46 CFR Part 14

Oceanographic research vessels, Reporting and recordkeeping requirements, Seamen.

46 CFR Part 15

Reporting and recordkeeping requirements, Seamen, Vessels.

46 CFR Part 25

Fire prevention, Marine safety, Reporting and recordkeeping requirements.

46 CFR Part 31

Cargo vessels, Marine safety, Reporting and recordkeeping requirements.

46 CFR Part 39

Cargo vessels, Fire prevention, Hazardous materials transportation, Marine safety, Occupational safety and health, Reporting and recordkeeping requirements.

46 CFR Part 44

Reporting and recordkeeping requirements, Vessels.

46 CFR Part 50

Reporting and recordkeeping requirements, Vessels.

46 CFR Part 54

Reporting and recordkeeping requirements, Vessels.

46 CFR Part 63

Reporting and recordkeeping requirements, Vessels.

46 CFR Part 69

Measurement standards, Penalties, Reporting and recordkeeping requirements, Vessels.

46 CFR Part 71

Marine safety, Passenger vessels, Reporting and recordkeeping requirements.

46 CFR Part 91

Cargo vessels, Marine safety, Reporting and recordkeeping requirements.

46 CFR Part 107

Marine safety, Oil and gas exploration, Reporting and recordkeeping requirements, Vessels.

46 CFR Part 110

Reporting and recordkeeping requirements, Vessels.

46 CFR Part 116

Fire prevention, Marine safety, Passenger vessels, Seamen.

46 CFR Part 125

Administrative practice and procedure, Cargo vessels, Hazardous materials transportation, Marine safety, Seamen.

46 CFR Part 127

Cargo vessels, Fire prevention, Marine safety, Occupational safety and health, Reporting and recordkeeping requirements, Seamen.

46 CFR Part 134

Cargo vessels, Hazardous materials transportation, Marine safety, Occupational safety and health, Reporting and recordkeeping requirements, Seamen.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 161

Fire prevention, Marine safety, Reporting and recordkeeping requirements.

46 CFR Part 162

Fire prevention, Marine safety, Oil pollution, Reporting and recordkeeping requirements.

46 CFR Part 170

Marine safety, Reporting and recordkeeping requirements, Vessels.

46 CFR Part 171

Marine safety, Passenger vessels.

46 CFR Part 172

Cargo vessels, Hazardous materials transportation, Marine safety.

46 CFR Part 175

Marine safety, Passenger vessels, Reporting and recordkeeping requirements.

46 CFR Part 177

Marine safety, Passenger vessels, Reporting and recordkeeping requirements.

46 CFR Part 189

Marine safety, Oceanographic research vessels, Reporting and recordkeeping requirements.

For the reasons discussed in the preamble, the Coast Guard amends 46 CFR Parts 10, 14, 15, 25, 31, 39, 44, 50, 54, 63, 69, 71, 91, 107, 110, 116, 125, 127, 134, 151, 153, 154, 161, 162, 170, 171, 172, 175, 177, and 189 as set forth below:

TITLE 46—SHIPPING

PART 10—LICENSING OF MARITIME PERSONNEL

1. The authority citation for part 10 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 10.107 is also issued under the authority of 44 U.S.C. 3507.

2. Amend § 10.205 by revising paragraphs (g)(3) and (h) introductory text as follows:

§ 10.205 Requirements for original licenses, certificates of registry, and STCW certificates and endorsements.

* * * * *

(g) * * *

(3) All licenses for master or mate of towing vessels for ocean service.

* * * * *

(h) First aid and cardiopulmonary resuscitation (CPR) course certificates. All applicants for an original license or certificate of registry, except as provided in §§ 10.429, 10.456, and 10.467 of this part, must present to the OCMI:

* * * * *

§ 10.209 [Amended]

3. In § 10.209(e)(3)(i), remove the reference “10.205” and add, in its place, the reference “10.105.”

§ 10.219 [Amended]

4. Amend § 10.219(a) as follows:

a. In the second sentence, remove the words “an OCMI listed in the note following § 1.05(b) of this part” and add, in their place, the words “any Regional Examination Center”; and,

b. In the second sentence, remove the word “Commandant” and add, in its place, the words “National Maritime Center”.

§ 10.304 [Amended]

5. In § 10.304(a), remove the term “NMC-4B” and add, in its place, the term “NMC-2”.

§ 10.307 [Amended]

6. In § 10.307, remove the term “NMC-4B” and add, in its place, the term “NMC-2”.

§ 10.309 [Amended]

7. In § 10.309(a)(11), remove the term “NMC-4B” and add, in its place, the term “NMC-2.”

§ 10.805 [Amended]

8. In § 10.805(e), remove the words “by the Officer in Charge, Marine Inspection. (See § 10.219.)” and add, in their place, the words “in accordance with § 10.219 of this part.”

PART 14—SHIPMENT AND DISCHARGE OF MERCHANT MARINERS

9. The authority citation for part 14 continues to read as follows:

Authority: 5 U.S.C. 552; 46 U.S.C. Chapters 103 and 104.

§ 14.311 [Amended]

10. In § 14.311(a), remove the words “via modem”.

PART 15—MANNING REQUIREMENTS

11. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

12. Revise § 15.850 to read as follows:

§ 15.850 Lookouts.

The requirements for the maintenance of a proper lookout are specified in Rule 5 of the International Regulations for Preventing Collisions at Sea, 1972 (33 U.S.C. 1602(c)), and Rule 5 of the Inland Navigational Rules Act of 1980 (33 U.S.C. 2005). Lookout is a function to be performed by a member of a navigational watch.

PART 25—REQUIREMENTS

13. The authority citation for part 25 continues to read as follows:

Authority: 33 U.S.C. 1903(b); 46 U.S.C. 3306, 4102, 4302; Department of Homeland Security Delegation No. 0170.1.

§ 25.26-1 [Amended]

14. In § 25.26-1, in the definition of “High seas”, remove the reference “33 CFR 2.05-10”, and add, in its place, the reference “33 CFR 2.20.”

PART 31—INSPECTION AND CERTIFICATION

15. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.10-5 [Amended]

16. Amend § 31.10-5 as follows:

a. In paragraph (a) introductory text, remove the words “400 7th Street, SW., Washington, DC 20590-0001” and add, in their place, the words “1900 Half Street, SW., Suite 1000, Room 525, Washington, DC 20024,”.

b. In paragraph (a)(1), remove the words “90 West Street, Suite 1612, New York, NY 10006” and add, in their place, the words “321 West 44th Street, New York, NY 10036”.

§ 31.10-16 [Amended]

17. Amend § 31.10-16(e) as follows:

a. In the first and second sentences, remove the term “(G-MOC)” and add, in its place, the term “(CG-3PCV)”; and,

b. Remove the words “90 West Street, Suite 1612, New York, New York 10006” and add, in their place, the words “321 West 44th Street, New York, NY 10036”.

PART 39—VAPOR CONTROL SYSTEMS

18. The authority citation for part 39 continues to read as follows:

Authority: 33 U.S.C. 1231; 46 U.S.C. 3306, 3703, 3715(b); 45 FR 58801, 3 CFR, 1980 Comp., p. 277; Department of Homeland Security Delegation No. 0170.1.

§ 39.10-3 [Amended]

19. In § 39.10-3, in the definition of “Marine Safety Center,” remove the words “400 Seventh Street, SW., Washington, DC 20590-0001” and add, in their place, the words “1900 Half Street, SW, Suite 1000, Room 525, Washington, DC 20024 for visitors. Send all mail to Commanding Officer, U.S. Coast Guard Marine Safety Center, JR10-0525, 2100 2nd Street, SW., Washington, DC 20593, in a written or electronic format. Information for submitting the VSP electronically can be found at http://www.uscg.mil/HQ/MSC.”

PART 44—SPECIAL SERVICE LIMITED DOMESTIC VOYAGES

20. The authority citation for part 44 continues to read as follows:

Authority: 46 U.S.C. 5101-5116; Department of Homeland Security Delegation No. 0170.1.

§ 44.320 [Amended]

21. In § 44.320(a) remove the words “(G-MSC), 400 Seventh Street, SW., Washington, DC 20590-0001” and add, in their place, the words “1900 Half Street, SW., Suite 1000, Room 525, Washington, DC 20024 by visitors, or transmitted by mail to Commanding Officer, U.S. Coast Guard Marine Safety Center, JR10-0525, 2100 2nd Street, SW., Washington, DC 20593, in a written or electronic format. Information for submitting the VSP electronically can be found at http://www.uscg.mil/HQ/MSC”.

PART 50—GENERAL PROVISIONS

22. The authority citation for part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

23. Revise § 50.10-23 to read as follows:

§ 50.10-23 Marine Safety Center.

The term Marine Safety Center refers to the Commanding Officer, U.S. Coast Guard Marine Safety Center, 1900 Half Street, SW., Suite 1000, Room 525, Washington, DC 20024 for visitors. Send all mail to Commanding Officer, U.S. Coast Guard Marine Safety Center, JR10-0525, 2100 2nd Street, SW., Washington, DC 20593, in a written or electronic format. Information for submitting the VSP electronically can be found at http://www.uscg.mil/HQ/MSC.

PART 54—PRESSURE VESSELS

24. The authority citation for part 54 continues to read as follows:

Authority: 33 U.S.C. 1509; 43 U.S.C. 1333; 46 U.S.C. 3306, 3703; E.O. 12234, 45 FR 58801, 3 CFR, 1980 Comp., p. 277; Department of Homeland Security Delegation No. 0170.1.

§ 54.15-25 [Amended]

25. Amend § 54.15-25(c) as follows:

a. Remove the term “F=0/2” and add, in its place, the term “F=0.2;” and,

b. Remove the formula

and add, in its place, the formula

G = [(177/LC) (√ZT/M)] SI units

PART 63—AUTOMATIC AUXILIARY BOILERS

26. The authority citation for part 63 continues to read as follows:

Authority: 46 U.S.C. 3306, 3703; E.O. 12234, 45 FR 58801, 3 CFR, 1980 Comp., p. 277; Department of Homeland Security Delegation No. 0170.1.

27. In § 63.10-1, revise the introductory text to read as follows:

§ 63.10-1 Test procedures and certification report.

Two (2) copies of the following items must be submitted. Visitors may deliver them to the Commanding Officer, U.S. Coast Guard Marine Safety Center, 1900 Half Street, SW., Suite 1000, Room 525, Washington, DC 20024, or they may be transmitted by mail to Commanding Officer, U.S. Coast Guard Marine Safety Center, JR10-0525, 2100 2nd Street, SW., Washington, DC 20593, in a written or electronic format. Information for submitting the VSP electronically can be found at http://www.uscg.mil/HQ/MSC.

* * * * *

PART 69—MEASUREMENT OF VESSELS

28. The authority citation for part 69 continues to read as follows:

Authority: 46 U.S.C. 2301, 14103; Department of Homeland Security Delegation No. 0170.1.

29. In § 69.9, revise the definition of “Commandant” to read as follows:

§ 69.9 Definitions.

* * * * *

Commandant means Commandant of the Coast Guard at the following addresses: Commanding Officer, U.S. Coast Guard Marine Safety Center, 1900 Half Street, SW., Suite 1000, Room 525, Washington, DC 20024 for visitors. Send all mail to Commanding Officer, U.S. Coast Guard Marine Safety Center, JR10-0525, 2100 2nd Street, SW., Washington, DC 20593, in a written or electronic format. Information for submitting the VSP electronically can be found at http://www.uscg.mil/HQ/MSC.

* * * * *

30. In § 69.15, revise paragraph (a) to read as follows:

§ 69.15 Authorized measurement organizations.

(a) Except as provided under paragraphs (c) and (d) of this section, all U.S. vessels to be measured or remeasured under the Convention, Standard, or Dual Measurement Systems must be measured by an authorized measurement organization meeting the requirements of § 69.27 of this subpart. A current listing of authorized measurement organizations can be obtained by visitors from the Commanding Officer, U.S. Coast Guard Marine Safety Center, 1900 Half Street, SW., Suite 1000, Room 525, Washington, DC 20024, or by writing to: Commanding Officer, U.S. Coast Guard Marine Safety Center, JR10-0525, 2100 2nd Street, SW., Washington, DC 20593.

* * * * *

PART 71—INSPECTION AND CERTIFICATION

31. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

32. In § 71.65-15, revise paragraph (a)(2) to read as follows:

§ 71.65-15 Procedure for submittal of plans.

(a) * * *

(2) The plans may be submitted by visitors directly to Commanding Officer, U.S. Coast Guard Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC. In this case, the plans will be returned directly to the submitter, with a copy of the action being forwarded to the interested Officer in Charge, Marine Inspection.

* * * * *

PART 91—INSPECTION AND CERTIFICATION

33. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

34. In § 91.55-15, revise paragraph (a)(3) to read as follows:

§ 91.55-15 Procedure for submittal of plans.

(a) * * *

(3) The plans may be submitted by visitors directly to Commanding Officer, U.S. Coast Guard Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC. In this case, the plans will be returned directly to the submitter, with a copy of the action being forwarded to the interested Officer in Charge, Marine Inspection.

* * * * *

PART 107—INSPECTION AND CERTIFICATION

35. The authority citation for part 107 continues to read as follows:

Authority: 43 U.S.C. 1333; 46 U.S.C. 3306, 3307; 46 U.S.C. 3316; Department of Homeland Security Delegation No. 0170.1; § 107.05 also issued under the authority of 44 U.S.C. 3507.

§ 107.115 [Amended]

36. In § 107.115(b)(4), remove the words “90 West Street—Suite 1612, New York, New York 10004” and add, in their place, the words “321 West 44th Street, New York, New York 10036”.

§ 107.258 [Amended]

37. In § 107.258(a)(2), remove the words “90 West Street, Suite 1612, New York, NY 10006” and add, in their place, the words “321 West 44th Street, New York, NY 10036.”

38. In § 107.317, revise paragraphs (b) and (d) as follows:

§ 107.317 Addresses for submittal of plans, specifications, and calculations.

* * * * *

(b) By visitors to the Commanding Officer, U.S. Coast Guard Marine Safety Center, 1900 Half Street, SW., Suite 1000, Room 525, Washington, DC 20024, or by mail to: Commanding Officer, U.S. Coast Guard Marine Safety Center, JR10-0525, 2100 2nd Street, SW., Washington, DC 20593, in a written or electronic format. Information for submitting the VSP electronically can be found at http://www.uscg.mil/HQ/MSC.

* * * * *

(d) International Cargo Gear Bureau, Inc., 321 West 44th Street, New York, New York 10036.

PART 110—GENERAL PROVISIONS

39. The authority citation for part 110 continues to read as follows:

Authority: 33 U.S.C. 1509; 43 U.S.C 1333; 46 U.S.C. 3306, 3307, 3703; E.O. 12234, 45 FR 58801, 3 CFR, 1980 Comp., p. 277; Department of Homeland Security Delegation No. 0170.1; § 110.01-2 also issued under 44 U.S.C. 3507.

40. In § 110.25-3, revise paragraph (a) (1) to read as follows:

§ 110.25-3 Procedure for submitting plans.

(a) * * *

(1) By visitors to the Commanding Officer, U.S. Coast Guard Marine Safety Center, 1900 Half Street, SW., Suite 1000, Room 525, Washington, DC 20024, or by mail to: Commanding Officer, U.S. Coast Guard Marine Safety Center, JR10-0525, 2100 2nd Street, SW., Washington, DC 20593, in a written or electronic format. Information for submitting the VSP electronically can be found at http://www.uscg.mil/HQ/MSC.

* * * * *

PART 116—CONSTRUCTION AND ARRANGEMENT

41. The authority citation for part 116 continues to read as follows:

Authority: 46 U.S.C. 2103, 3306; E.O. 12234, 45 FR 58801, 3 CFR, 1980 Comp., p. 277, Department of Homeland Security Delegation No. 0170.1.

42. In § 116.202, revise paragraph (a) introductory text to read as follows:

§ 116.202 Plans and information required.

(a) Except as provided in § 116.210 of this part, the owner of a vessel requesting initial inspection for certification must, prior to the start of construction, submit for approval three copies of the following plans. The plans may be delivered by visitors to Commanding Officer, U.S. Coast Guard Marine Safety Center, 1900 Half Street, SW, Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC.

* * * * *

PART 125—GENERAL

43. The authority citation for part 125 continues to read as follows:

Authority: 46 U.S.C. 2103, 3306, 3307; 49 U.S.C. App. 1804; Department of Homeland Security Delegation No. 0170.1.

44. In § 125.160, revise the definition of “Coast Guard District Commander or District Commander” and add a definition for “Coastwise” to read as follows:

§ 125.160 Definitions.

* * * * *

Coast Guard District Commander or District Commander means an officer of the Coast Guard designated by the Commandant to command activities of the Coast Guard within a Coast Guard district described by 33 CFR part 3, whose duties include the inspection, enforcement, and administration of laws for the safety and navigation of vessels.

Coastwise refers to a route not more than 20 nautical miles offshore on any of the following waters:

(1) Any ocean.

(2) The Gulf of Mexico.

(3) The Caribbean Sea.

(4) The Gulf of Alaska.

(5) The Bering Sea.

(6) Such other, similar waters as may be designated by the District Commander.

* * * * *

PART 127—CONSTRUCTION AND ARRANGEMENTS

45. The authority citation for part 127 continues to read as follows:

Authority: 46 U.S.C. 3306; Department of Homeland Security Delegation No. 0170.1.

46. Revise § 127.120 to read as follows:

§ 127.120 Procedure for submittal of plans.

If a vessel is to be constructed, altered, or repaired, the plans, information, and calculations required by this part must be submitted—

(a) To the OCMI in the zone where the vessel is to be constructed, altered, or repaired; or

(b) By visitors to the U.S. Coast Guard Marine Safety Center, 1900 Half Street, SW., Suite 1000, Room 525, Washington, DC 20024, or by mail to: Commanding Officer, U.S. Coast Guard Marine Safety Center, JR10-0525, 2100 2nd Street, SW., Washington, DC 20593, in a written or electronic format. Information for submitting the VSP electronically can be found at http://www.uscg.mil/HQ/MSC.

PART 134—ADDED PROVISIONS FOR LIFTBOATS

47. The authority citation for part 134 continues to read as follows:

Authority: 46 U.S.C. 3306, 3307; Department of Homeland Security Delegation No. 0170.1.

§ 134.140 [Amended]

48. In § 134.140(d), remove the term “etailed” and add, in its place, the term “detailed”.

PART 151—BARGES CARRYING BULK LIQUID HAZARDOUS MATERIAL CARGO

49. The authority citation for part 151 continues to read as follows:

Authority: 33 U.S.C. 1903; 46 U.S.C. 3703; Department of Homeland Security Delegation No. 0170.1.

§ 151.04-2 [Amended]

50. In § 151.04-2(a), remove the word “biennially” and add, in its place, the words “every five years”.

PART 153—SHIPS CARRYING BULK LIQUID, LIQUEFIED GAS, OR COMPRESSED GAS HAZARDOUS MATERIALS

51. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

52. In § 153.9, revise paragraph (b) introductory text and paragraph (c)(1) to read as follows:

§ 153.9 Foreign flag vessel endorsement application.

* * * * *

(b) Application for a vessel whose flag administration does not issue IMO Certificates. A person who desires a Certificate of Compliance endorsed with the name of a cargo in Table 1 of this part, as described in § 153.900, must submit an application, in a written or electronic format, to Commanding Officer, U.S. Coast Guard Marine Safety Center, JR10-0525, 2100 2nd Street, SW., Washington, DC 20593, that includes the following information:

* * * * *

(c) Conditions applying to all Certificate of Compliance applications. (1) If requested by the Commanding Officer, U.S. Coast Guard Marine Safety Center, a person desiring a Certificate of Compliance for a vessel must furnish any other vessel information such as plans, design calculations, test results, certificates, and manufacturer's data, that the Coast Guard needs to determine that the vessel meets the standards of this part.

* * * * *

PART 154—SAFETY STANDARDS FOR SELF-PROPELLED VESSELS CARRYING BULK LIQUEFIED GASES

53. The authority citation for part 154 continues to read as follows:

Authority: 46 U.S.C. 3703, 9101; Department of Homeland Security Delegation No. 0170.1.

54. In § 154.22, revise paragraph (a) introductory text to read as follows:

§ 154.22 Foreign flag vessel: Certificate of Compliance endorsement application.

(a) A person who desires an endorsed Certificate of Compliance to meet § 154.1802(a) of this part for a foreign flag vessel, whose flag administration issues IMO Certificates, must submit to the Commanding Officer, U.S. Coast Guard Marine Safety Center, JR10-0525, 2100 2nd Street, SW., Washington, DC 20593, in a written or electronic format, an application that includes the following:

* * * * *

PART 161—ELECTRICAL EQUIPMENT

55. The authority citation for part 161 continues to read as follows:

Authority: 46 U.S.C. 3306, 3703, 4302; E.O. 12234, 45 FR 58801, 3 CFR, 1980 Comp., p. 277; Department of Homeland Security Delegation No. 0170.1.

§ 161.010-1 [Amended]

56. In § 161.010-1(a), remove the words “400 Seventh Street SW., Washington, DC 20590-0001,” and add, in their place, the words “1900 Half Street, SW., Suite 1000, Room 525, Washington, DC 20024,”.

57. In § 161.010-4, revise paragraph (a) to read as follows:

§ 161.010-4 Procedure for approval.

(a) A request for approval of an automatic floating electric waterlight must be submitted by visitors to the Commanding Officer, USCG Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC.

* * * * *

PART 162—ENGINEERING EQUIPMENT

58. The authority citation for part 162 continues to read as follows:

Authority: 33 U.S.C. 1321(j), 1903; 46 U.S.C. 3306, 3703, 4104, 4302; E.O. 12234, 45 FR 58801, 3 CFR, 1980 Comp., p. 277; E.O. 11735, 38 FR 21243, 3 CFR, 1971-1975 Comp., p. 793; Department of Homeland Security Delegation No. 0170.1.

59. In § 162.017-6, revise paragraph (a) to read as follows:

§ 162.017-6 Procedure for approval.

(a) General. Pressure-vacuum relief valves intended for use on tank vessels must be approved for such use by the Commanding Officer, U.S. Coast Guard Marine Safety Center. Applications for approval may be delivered by visitors to the Commanding Officer, U.S. Coast Guard Marine Safety Center, 1900 Half Street, SW, Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC.

* * * * *

60. In § 162.018-8, revise paragraph (a) to read as follows:

§ 162.018-8 Procedure for approval.

(a) General. Safety relief valves for use on pressure vessels containing liquefied compressed gases must be approved by the Commanding Officer, U.S. Coast Guard Marine Safety Center. Applications for approval may be delivered by visitors to the Commanding Officer, U.S. Coast Guard Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC.

* * * * *

61. In § 162.050-7, revise paragraph (a) to read as follows:

§ 162.050-7 Approval procedures.

(a) An application for approval of equipment under this subpart must either be delivered by visitors to the Commanding Officer, U.S. Coast Guard Marine Safety Center, Engineering Division, 1900 Half Street, SW., Suite 1000, Room 525, Washington, DC 20024, or transmitted by mail to Commanding Officer, U.S. Coast Guard Marine Safety Center, JR10-0525, 2100 2nd Street, SW., Washington, DC 20593, in a written or electronic format. Information for submitting the VSP electronically can be found at http://www.uscg.mil/HQ/MSC.

* * * * *

62. In § 162.050-15, revise paragraphs (a), (e), and (h) to read as follows:

§ 162.050-15 Designation of facilities.

(a) Each request for designation as a facility authorized to perform approval tests must either be delivered by visitors to the Commanding Officer, U.S. Coast Guard Marine Safety Center, Engineering Division, 1900 Half Street, SW., Suite 1000, Room 525, Washington, DC 20024, or transmitted by mail to Commanding Officer, U.S. Coast Guard Marine Safety Center, JR10-0525, 2100 2nd Street, SW., Washington, DC 20593, in a written or electronic format. Information for submitting the VSP electronically can be found at http://www.uscg.mil/HQ/MSC.

* * * * *

(e) The facility must measure the oil content of each sample using the method described in § 162.050-39 of this subpart and report the value of each of the 12 measurements to the Commanding Officer, U.S. Coast Guard Marine Safety Center, Engineering Division, JR10-0525, 2100 2nd Street, SW., Washington, DC 20593.

* * * * *

(h) A facility may not subcontract for approval testing unless previously authorized by the Coast Guard. A request for authorization to subcontract must be sent to the Commanding Officer, U.S. Coast Guard Marine Safety Center, Engineering Division, JR10-0525, 2100 2nd Street, SW., Washington, DC 20593.

PART 170—STABILITY REQUIREMENTS FOR ALL INSPECTED VESSELS

63. The authority citation for part 170 continues to read as follows:

Authority: 43 U.S.C. 1333; 46 U.S.C. 2103, 3306, 3703; E.O. 12234, 45 FR 58801, 3 CFR, 1980 Comp., p. 277; Department of Homeland Security Delegation No. 0170.1.

64. Revise § 170.010 to read as follows:

§ 170.010 Equivalents.

Substitutions for fittings, equipment, arrangements, calculations, information, or tests required in this subchapter may be approved by the Commandant, the Commanding Officer, U.S. Coast Guard Marine Safety Center, JR10-0525, 2100 2nd Street, SW., Washington, DC 20593, or the Officer in Charge, Marine Inspection, if the substitution provides an equivalent level of safety.

65. In § 170.100, revise paragraph (b) to read as follows:

§ 170.100 Addresses for submittal of plans and calculations.

* * * * *

(b) By visitors to the Commanding Officer, U.S. Coast Guard Marine Safety Center, 1900 Half Street, SW., Suite 1000, Room 525, Washington, DC 20024, or by mail to: Commanding Officer, U.S. Coast Guard Marine Safety Center, JR10-0525, 2100 2nd Street, SW., Washington, DC 20593, in a written or electronic format. Information for submitting the VSP electronically can be found at http://www.uscg.mil/HQ/MSC.

* * * * *

§ 170.160 [Amended]

66. In § 170.160(c)(3), remove the words “§ 171.030(c) of this subchapter” and add, in their place, the words “§ 178.330 of this chapter”.

PART 171—SPECIAL RULES PERTAINING TO VESSELS CARRYING PASSENGERS

67. The authority citation for part 171 continues to read as follows:

Authority: 46 U.S.C. 2103, 3306; E.O. 12234, 45 FR 58801, 3 CFR, 1980 Comp., p. 277; Department of Homeland Security Delegation No. 0170.1.

§ 171.080 [Amended]

68. In § 171.080(h)(3), remove the words “angle mf” and add, in their place, the words “angle of.”

PART 172—SPECIAL RULES PERTAINING TO BULK CARGOES

69. The authority citation for part 172 continues to read as follows:

Authority: 46 U.S.C. 3306, 3703, 5115; E.O. 12234, 45 FR 58801, 3 CFR, 1980 Comp., p. 277; Department of Homeland Security Delegation No. 0170.1.

§ 172.015 [Amended]

70. In § 172.015(b), remove the words “30 Vesey Street, New York, NY 10007-2914” and add, in their place, the words “17 Battery Place, Suite 1232, New York, New York 10004-1110”.

§ 172.040 [Amended]

71. In § 172.040(b), remove the words “30 Vesey Street, New York, NY 10007-2914” and add, in their place, the words “17 Battery Place, Suite 1232, New York, New York 10004-1110”.

PART 175—GENERAL PROVISIONS

72. The authority citation for part 175 continues to read as follows:

Authority: 46 U.S.C. 2103, 3205, 3306, 3703; Pub. L 103-206, 107 Stat. 2439; 49 U.S.C. App. 1804; Department of Homeland Security Delegation No. 0170.1; 175.900 also issued under authority of 44 U.S.C. 3507.

§ 175.400 [Amended]

73. Amend § 175.400, in the definition of “Length,” paragraph (3), by removing the words “in subchapter S” and adding, in their place, the words “of this subchapter.”

PART 177—CONSTRUCTION AND ARRANGEMENT

74. The authority citation for part 177 continues to read as follows:

Authority: 46 U.S.C. 2103, 3306; E.O. 12234, 45 FR 58801, 3 CFR, 1980 Comp., p. 277; Department of Homeland Security Delegation No. 0170.1.

75. In § 177.202, revise paragraph (d) to read as follows:

§ 177.202 Plans and information required.

* * * * *

(d) An owner may submit any plans, manuals, or calculations, required to be submitted to the OCMI under this part, to the Commanding Officer, U.S. Coast Guard Marine Safety Center, JR10-0525, 2100 2nd Street, SW, Washington, DC 20593. Three copies of all documents are required to be submitted for Marine Safety Center plan approval.

* * * * *

76. In § 177.410, amend paragraph (b)(5) by removing the second sentence and adding two sentences in its place to read as follows:

§ 177.410 Structural fire protection.

* * * * *

(b) * * *

(5) * * * Requests for qualifying a specific laminate schedule as fire retardant for use in a particular vessel may be submitted for consideration by visitors to the Commanding Officer, U.S. Coast Guard Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC.

* * * * *

PART 189—INSPECTION AND CERTIFICATION

77. The authority citation for part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

78. In § 189.55-15, revise paragraph (a)(2) to read as follows:

§ 189.55-15 Procedure for submittal of plans.

(a) * * *

(2) The plans may be submitted by visitors directly to the Commanding Officer, U.S. Coast Guard Marine Safety Center, 1900 Half Street, SW., Suite 1000, Room 525, Washington, DC 20024, or transmitted by mail to: Commanding Officer, U.S. Coast Guard Marine Safety Center, JR10-0525, 2100 2nd Street, SW., Washington, DC 20593, in a written or electronic format. Information for submitting the VSP electronically can be found at http://www.uscg.mil/HQ/MSC. In this case, the plans will be returned directly to the submitter, with a copy of the action being forwarded to the interested Officer in Charge, Marine Inspection.

* * * * *

Dated: September 13, 2007.
Stefan G. Venckus,
Chief, Office of Regulations and Administrative Law, United States Coast Guard.

[FR Doc. E7-18433 Filed 9-20-07; 8:45 am]

BILLING CODE 4910-15-P